DEPARTMENT OF HEALTH AND HUMAN SERVICES

National Institutes of Health

Proposed Collection; 60-Day Comment Request; Generic Clearance for the Collection of Qualitative Feedback on Agency Service Delivery (NCI)

AGENCY: National Institutes of Health, HHS.

ACTION: Notice.

SUMMARY: In compliance with the requirement of the Paperwork Reduction Act of 1995 to provide an opportunity for public comment on proposed data collection projects, the National Institutes of Health and National Cancer Institute (NCI) will publish periodic summaries of proposed projects to be submitted to the Office of Management and Budget (OMB) for review and approval.

DATES: Comments regarding this information collection are best assured of having their full effect if received within 60 days of the date of this publication.

FOR FURTHER INFORMATION CONTACT: To obtain a copy of the data collection plans and instruments, submit comments in writing, or request more information on the proposed project, contact: Diane Kreinbrink, Office of Management Policy and Compliance, National Cancer Institute, 9609 Medical Center Drive, Bethesda, MD 20892-9760 or call non-toll-free number (240) 276-5582 or Email your request, including your address to: diane.kreinbrink@nih.gov. Formal requests for additional plans and instruments must be requested in writing.

SUPPLEMENTARY INFORMATION: Section 3506(c)(2)(A) of the Paperwork Reduction Act of 1995 requires: written comments and suggestions from the public, and affected agencies are invited to address one or more of the following points: (1) Whether the proposed collection of information is necessary for the proper performance of the function of the agency, including whether the information will have practical utility; (2) The accuracy of the agency's estimate of the burden of the proposed collection of information, including the validity of the methodology and assumptions used; (3) Ways to enhance the quality, utility, and clarity of the information to be collected; and (4) Ways to minimizes the burden of the collection of information on those who are to respond, including the use of appropriate automated, electronic, mechanical, or other technological collection techniques or other forms of information technology.

Proposed Collection Title: Generic Clearance for the Collection of Qualitative Feedback on Agency Service Delivery (NCI), 0925-0642, Expiration Date 03/31/2023, EXTENSION, National Cancer Institute (NCI), National Institutes of Health (NIH).

Need and Use of Information Collection: This activity collects qualitative customer and stakeholder feedback efficiently and timely, per the Administration's commitment to improving service delivery. This generic provides information about the National Cancer Institute's customer or stakeholder perceptions, experiences, and expectations provides an early warning of service issues, or focuses on areas where communication, training, or operations changes might improve product or service delivery. It also allows feedback to contribute directly to the improvement of program management. Feedback collected under this generic clearance provides valuable information but will not yield data that can be generalized to the overall population.

OMB approval is requested for 3 years. There are no costs to respondents other than their time. The total estimated annualized burden hours are 9,337 hours.

Estimated Annualized Burden Hours
Form name | Type of respondent | Number of respondents | Number of responses per respondent | Average burden per response (in hours) | Total annual burden hours
Surveys | Individuals | 27,100 | 1 | 12/60 | 5,420
In-Depth Interviews (IDIs) or Small Discussion Groups | Individuals | 500 | 1 | 90/60 | 750
Focus Groups | Individuals | 1,000 | 1 | 90/60 | 1,500
Website or Software Usability Tests | Individuals | 5,000 | 1 | 20/60 | 1,667
Total |  |  | 33,600 |  | 9,337

Dated: October 6, 2022.
Diane Kreinbrink,
Project Clearance Liaison, National Cancer Institute, National Institutes of Health.

[FR Doc. 2022-22154 Filed 10-11-22; 8:45 am]

BILLING CODE 4140-01-P